DEPARTMENT OF HOMELAND SECURITY

Office of Grants and Training

Assistance to Firefighters Grant Program

AGENCY: Office of Grants and Training, DHS.

ACTION: Notice of guidance.

SUMMARY: This Notice is to provide guidelines that describe the application process for grants and the criteria for awarding grants in the 2007 Assistance to Firefighters Grant program year, as well as an explanation for any differences with the guidelines recommended to the Department by representatives of the Nation's fire service leadership during the annual Criteria Development meeting held November 1-2, 2006. The program makes grants directly to fire departments and nonaffiliated emergency medical services organizations for the purpose of enhancing first-responders' abilities to protect the health and safety of the public as well as that of first-responder personnel facing fire and fire-related hazards. In addition, the authorizing statute requires that a minimum of five percent of appropriated funds be expended for fire prevention and safety grants, which are also made directly to local fire departments and to local, regional, state or national entities recognized for their expertise in the field of fire prevention and firefighter safety research and development.

As in prior years, this year's grants will be awarded on a competitive basis to the applicants that best reflect the program's criteria and funding priorities, and best address statutory award requirements. As referenced above, this Notice describes the criteria and funding priorities recommended by a panel of representatives of the Nation's fire service leadership (criteria development panel) and accepted by the Department of Homeland Security, unless otherwise noted herein. This Notice contains details regarding the guidance and competitive process descriptions that the Department has provided to applicants and also provides information on how and why the Department deviated from recommendations of the criteria development panel.

Authority: 15 U.S.C. 2229, 2229a.

FOR FURTHER INFORMATION CONTACT: Brian Cowan, Director, Assistance to Firefighters Program Office, U.S. Department of Homeland Security, 245 Murray Lane, Building 410, SW., Washington, DC 20528-7000.

SUPPLEMENTARY INFORMATION: The purpose of the Assistance to Firefighters Grant (AFG) Program is to provide grants directly to fire departments and nonaffiliated Emergency Medical Services (EMS) organizations to enhance their ability to protect the health and safety of the public, as well as that of first-responder personnel, with respect to fire and fire-related hazards.

Appropriations

For fiscal year 2007, Congress appropriated $547,000,000 to carry out the activities of the AFG Program. The Department of Homeland Security (DHS) is authorized to use up to $27,350,000 for administration of the AFG program (five percent of the appropriated amount). In addition, DHS has set aside no less than $27,350,000 of the funds (five percent of the appropriation) for the Fire Prevention and Safety Grants in order to make grants to, or enter into contracts or cooperative agreements with, national, state, local or community organizations or agencies, including fire departments, for the purpose of carrying out fire prevention grants and firefighter safety research and development grants. The remaining $492,300,000 will be used for competitive grants to fire departments and nonaffiliated EMS organizations for equipment, training and first responders' safety. Within the portion of funding available for these competitive grants, DHS must assure that no less than three and one-half percent of the appropriation, or $19,145,000, is awarded for EMS equipment and training. However, awards to nonaffiliated EMS organizations are limited to no more than two percent of the appropriation or $10,940,000. Therefore, at least the balance of the requisite awards for EMS equipment and training must go to fire departments.

Background

DHS awards the grants on a competitive basis to the applicants that best address the AFG program's priorities and provide the most compelling justification. Applicants whose requests best address the program's priorities will be reviewed by a panel composed of fire service personnel. The panel will review the narrative and evaluate the application in four different areas: (1) The clarity of the proposed project description, (2) the organization's financial need, (3) the benefit to be derived from the proposed project relative to the cost, and (4) the extent to which the grant would enhance the applicant's daily operations and/or how the grant would positively impact the applicant's ability to protect life and property.

The AFG program for 2007 generally mirrors previous years' programs with a few significant changes. The first significant change is the removal of the restriction regarding the number of vehicles that an applicant may request in a single application. In prior years, all applicants were limited to one vehicle per request and previous vehicle awardees were not eligible for additional vehicle awards. For the 2007 program year, organizations that protect urban or suburban communities will be allowed to apply for multiple vehicles. However, DHS will limit eligible applicants' awards to one vehicle per station. In addition, the total amount of funds that can be awarded to any one applicant will continue to be limited by the statutory limitations detailed below.

The second significant change is to allow applicants to submit as many as three separate applications: a vehicle application, an application for operations and safety; and an application for a “regional project.” A “regional project,” generally, is a project undertaken by an applicant to provide services and support to a number of other regional participants, such as training for multiple mutual-aid jurisdictions. During the 2006 program year, organizations that applied as a host of a regional project were not able to include activities unrelated to the regional project, e.g., activities to address specific needs of the host applicant versus the region. For the 2007 program year, we will allow host applicants to satisfy their own needs via separate application(s).

As in previous years, regional applications will be required to reflect the general characteristics of the entire represented region. The population covered by the regional project will affect the amount of required local contribution to the project, i.e. the cost-share required for the project.

The 2007 program will again segregate the Fire Prevention and Safety Grant (FP&S) program from the AFG. DHS will have a separate application period devoted solely to FP&S in the Fall of 2007. The AFG Web site (http://www.firegrantsupport.com) will provide updated information on this program.

Congress has enacted statutory limits to the amount of funding that a grantee may receive from the AFG program in any fiscal year (15 U.S.C. 2229(b)(10)). These limits are based on population served. A grantee that serves a jurisdiction with 500,000 people or less may not receive grant funding in excess of $1,000,000 in any fiscal year. A grantee that serves a jurisdiction with more than 500,000 but not more than 1,000,000 people may not receive grants in excess of $1,750,000 in any fiscal year. A grantee that serves a jurisdiction with more than 1,000,000 people may not receive grants in excess of $2,750,000 in any fiscal year. DHS may waive these established limits to any grantee serving a jurisdiction of 1,000,000 people or less if DHS determines that extraordinary need for assistance warrants the waiver. No grantee, under any circumstance, may receive “more than the lesser of $2,750,000 or one half of one percent of the funds appropriated under this section for a single fiscal year.” In fiscal year 2007, no grantee may receive more than $2,735,000 (one half of one percent of the $547,000,000 appropriated for 2007).

Grantees must share in the costs of the projects funded under this grant program (15 U.S.C. 2229(b)(6). Fire departments and nonaffiliated EMS organizations that serve populations of less than 20,000 must match the Federal grant funds with an amount of non-Federal funds equal to five percent of the total project cost. Fire departments and nonaffiliated EMS organizations serving areas with a population between 20,000 and 50,000, inclusive, must match the Federal grant funds with an amount of non-Federal funds equal to ten percent of the total project cost. Fire departments and nonaffiliated EMS organizations that serve populations of over 50,000 must match the Federal grant funds with an amount of non-Federal funds equal to twenty percent of the total project costs. All non-Federal funds must be in cash, i.e., in-kind contributions are not eligible. The only waiver granted for this requirement will be for applicants located in Insular Areas as provided for in 48 U.S.C. 1469a.

The law imposes additional requirements on ensuring a distribution of grant funds among career, volunteer, and combination (volunteer and career personnel) fire departments, and among urban, suburban and rural communities. More specifically with respect to department types, DHS must ensure that all-volunteer or combination fire departments receive a portion of the total grant funding that is not less than the proportion of the United States population that those departments protect (15 U.S.C. 2229(b)(11)). There is no corresponding minimum for career departments. Therefore, subject to the other statutory limitations on DHS ability to award funds, DHS will ensure that, for the 2007 program year, no less than thirty-three percent (33%) of the funding available for grants will be awarded to combination departments, and no less than twenty-two percent (22%) will be awarded to all-volunteer departments. If, and only if, other statutory limitations inhibit DHS ability to ensure this distribution of funding, DHS will ensure that the aggregate combined total percent of funding provided to both combination and volunteer departments is no less than fifty-five percent.

DHS generally makes funding decisions using rank order resulting from the panel evaluation. However, DHS may deviate from rank order and make funding decisions based on the type of department (career, combination, or volunteer) and/or the size and character of the community the applicant serves (urban, suburban, or rural) to the extent it is required to satisfy statutory provisions.

Fire Prevention and Safety Grant Program

In addition to the grants available to fire departments in fiscal year 2007 through the competitive grant program, DHS will set aside no less than $27,350,000 of the funds available under the AFG program to make grants to, or enter into contracts or cooperative agreements with, national, State, local or community organizations or agencies, including fire departments, for the purpose of carrying out fire prevention and injury prevention projects, and for research and development grants that address firefighter safety.

In accordance with the statutory requirement to fund fire prevention activities, support to Fire Prevention and Safety Grant activities concentrates on organizations that focus on the prevention of injuries to children from fire. In addition to this priority, DHS places an emphasis on funding innovative projects that focus on protecting children under fourteen, seniors over sixty-five, and firefighters. Because the victims of burns experience both short- and long-term physical and psychological effects, DHS places a priority on programs that focus on reducing the immediate and long-range effects of fire and burn injuries.

DHS will issue an announcement regarding pertinent details of the Fire Prevention and Safety Grant portion of this program prior to the application period. Interested parties should monitor the grant program's Web site at http://www.firegrantsupport.com.

Application Process

Prior to the start of the application period, DHS will conduct applicant workshops across the country to inform potential applicants about the AFG program for 2007. In addition, DHS will provide applicants an online Web-based tutorial and other information to use in preparing a quality application. Applicants are advised to access the application electronically at https://portal.fema.net, or through the AFG Web site at http://www.firegrantsupport.com. In completing the application, applicants will provide relevant information on the applicant's characteristics, call volume, and existing capacities. Applicants will answer questions regarding their assistance request that reflects the funding priorities (iterated below). In addition, each applicant will complete a narrative addressing statutory competitive factors: financial need, benefits/costs, and improvement to the organization's daily operations. During the application period, applicants will be encouraged to contact DHS via a toll free number or online help desk with any questions. The electronic application process will permit the applicant to enter data and save the application for further use, and will not permit the submission of incomplete applications. Except for the narrative, the application uses a “point-and-click” selection process, or requires the entry of information (e.g., name & address, call volume numbers, etc.).

The application period for the AFG grants will be announced in the full Program Guidance. During the approaching application season, the program office expects to receive between 25,000 and 30,000 applications. When available, application statistics on the type of department, type of community, and other factors reflected in the submitted requests will be posted on the AFG Web site: http://www.firegrantsupport.com.

Application Review Process

DHS evaluates all applications in the preliminary screening process to determine which applications best address the program's announced funding priorities. This preliminary screening evaluates and scores the applicants' answers to the activity specific questions. Applications containing multiple activities will be given prorated scores based on the amount of funding requested for each activity.

The best applications as determined in the preliminary step are deemed to be in the “competitive range.” All applications in the competitive range are subject to a second level review by a technical evaluation panel made up of individuals from the fire service including, but not limited to, firefighters, fire marshals, and fire training instructors. The panelists will assess the application's merits with respect to the clarity and detail provided about the project, the applicant's financial need, the project's purported benefit to be derived from the cost, and the effectiveness of the project to enhance the health and safety of the public and fire service personnel.

Using the evaluation criteria included here, the panelists will independently score each application before them and then discuss the merits and shortcomings of the application in an effort to reconcile any major discrepancies. A consensus on the score is not required. The panelists will assign a score to each of the elements detailed above. DHS will then consider the highest scoring applications resulting from this second level of review for awards.

DHS will select a sufficient number of awardees from this application period to obligate all of the available grant funding. DHS will announce the awards over several months and will notify applicants that will not receive funding as soon as feasible. DHS will not make awards in any specified order, i.e., not by State, program, nor any other characteristic.

Criteria Development Process

Each year, the DHS conducts a criteria development meeting to develop the program's priorities for the coming year. DHS brings together a panel of fire service professionals representing the leadership of the nine major fire service organizations:

• International Association of Fire Chiefs (IAFC),

• International Association of Firefighters (IAFF),

• National Volunteer Fire Council (NVFC),

• National Fire Protection Association (NFPA),

• National Association of State Fire Marshals (NASFM),

• International Association of Arson Investigators (IAAI),

• North American Fire Training Directors (NAFTD),

• International Society of Fire Service Instructors (ISFSI),

• Congressional Fire Service Institute (CFSI).

The criteria development panel is charged with making recommendations to the grants program office regarding the creation and/or modification of program priorities as well as development of criteria and definitions as necessary.

The governing statute requires that DHS publish each year in the Federal Register the guidelines that describe the application process and the criteria for grant awards. DHS must also include an explanation of any differences between the published guidelines and the recommendations made by the criteria development panel. The guidelines and the statement regarding the differences between the guidelines and the criteria development panel recommendations must be published in the Federal Register prior to awarding any grants under the program. 15 U.S.C. 2229(b)(14).

Accordingly, DHS provides the following explanation of its decisions to modify or decline to adopt the criteria development panel's recommendations:

• The criteria development panel recommended allowing multiple vehicle requests for departments serving urban communities but did not provide a similar recommendation for departments serving suburban communities. DHS concurs with this recommendation but believes there is also sufficient benefit to be realized by extending the same consideration to departments serving suburban communities. As such, DHS will allow urban and suburban departments to apply for multiple vehicles during the 2007 program year. The applications, however, will be limited to one vehicle per station and any applicable statutory funding limits.

• In recent years, DHS has prohibited previous vehicle awardees from receiving a second vehicle grant. The criteria development panel recommended that DHS allow certain vehicle grantees an opportunity to receive a second vehicle grant. Specifically, they recommended that DHS implement a five-year moratorium on applying for a second vehicle allowing vehicle grantees from 2001 and 2002 to receive vehicle funding in 2007. DHS believes that in light of the recommendation to allow certain departments to apply for multiple vehicles, placing any restriction on previous awardees would not be equitable. As such, for the 2007 program year, DHS will allow any applicant to apply for a vehicle regardless of the applicant's previous grant history.

• The criteria development panel recommended that any multiple vehicle requests be restricted to multiple vehicles of the same class. The criteria development panel's rationale was that a department could otherwise request several high priority vehicles as well as lower priority vehicles which could result in funding of lower priority vehicles in lieu of high priorities. DHS believes limiting applicants to one type of vehicle is overly restrictive and not responsive to organizations' needs. Therefore, DHS will not implement this recommendation and will allow departments to apply for any need.

• While risk is taken into consideration when determining which applications should go to panel, DHS did not believe that the criteria development group provided sufficient consideration for risks that a community faces. As such, DHS will provide higher consideration for departments that protect a higher population than departments that protect lower populations. Another measure of benefit will be the frequency in which any equipment or training would be used. As such, the number of incidents (call volume) that an organization responds to is directly relevant to the frequency at which any equipment or training would be used—i.e., the higher levels of incidents should afford higher consideration for benefit/cost to an application. In the implementation of previous years' programs, DHS had utilized separate matrices for departments that protected urban, suburban and urban communities when determining the consideration for incidents. DHS believes that when using separate matrices, urban departments receive too little consideration relative to the incidents of an urban department. In order to remove this inequity, DHS will utilize a single, combined matrix when determining consideration for an applicant's level of incidents for fire departments.

• The criteria development group disagreed with DHS that vehicle awardees must strictly adhere to National Fire Protection Association (NFPA) guidelines regarding driver/operator training. Specifically, NFPA 1002 requires that drivers not only undergo driver and operator training, but also pass a firefighter physical (NFPA 1582) and be trained in basic firefighting (NFPA 1001). The criteria development group recommended that DHS require only the driver/operator training and a physical that did not meet NFPA standards. Finally, they recommended that DHS ignore the NFPA requirement that all drivers be sufficiently trained in basic firefighting. DHS will adhere to the standards provided by NFPA and require any vehicle awardee to administer a comprehensive driver/operator training program consistent with NFPA 1002.

• There are more EMS incidents than fire incidents. The criteria development group did not take the different response levels into account when recommending the matrices to determine consideration for the number of incidents. When evaluating EMS organizations' applications, therefore, DHS will use a different matrix than that used for evaluating fire departments' applications. DHS will also take into account existing vehicle's mileage.

• The criteria development committee did not make any recommendations to limit the items eligible for funding under the Fire Prevention and Safety Grants program. However, the purchase of certain items has been criticized as unnecessary to fire prevention efforts. Accordingly, when considering requests for fire prevention safety activities, DHS will limit the items that may be purchased to include, for example, mobile safety education trailers and model homes that are not usable for habitation or commercial purposes; curriculum materials and appropriate supplies; CPR (cardiopulmonary resuscitation) training tools; fire extinguisher training tools; and media equipment.

• The criteria development committee included formal physical fitness equipment and programs as a high priority and prerequisite (along with physicals and immunizations) for any other wellness and fitness funding. DHS disagrees that federal funding of exercise equipment should be a prerequisite for other wellness and fitness activities and placing a high priority on federal funding of exercise equipment over-emphasizes exercise in relation to physicals and immunizations. Therefore, DHS includes this activity as a lower priority.

• The criteria development committee recommended that the eligible activities under modifications to facilities be expanded to include storm doors and storm windows. While DHS appreciates the recommendation to mitigate losses from certain natural disasters, DHS determined that the previously eligible activities were sufficient. Specifically, under modifications to facilities, DHS will only fund: (1) Installation of sprinkler systems; (2) vehicle exhaust extraction systems; (3) smoke and fire alarm notification systems; and (4) emergency facility generators.

• DHS also made several minor modifications to the automated scoring matrix meant to correct unintended inconsistencies between the recommendations provided by the panel and DHS' interpretation of the intent of the recommendations.

In making these modifications, DHS looks to the broader Administration priorities established in Homeland Security Presidential Directive 8 (HSPD 8), 39 Weekly Comp. Pres. Docs. 1822 (Dec. 17, 2003). DHS is mindful of some differences between the AFG statutory mandates and HSPD-8 priorities, such as the statutory requirement that DHS make AFG grants directly to fire departments and non-affiliated EMS organizations, as contrasted with the HSPD-8 preference for funding through the States. However, the AFG is consistent with the National Preparedness Goal called for by HSPD-8 by prioritizing investments based upon the assessment of an applicant's need and capabilities to effectively prepare for and respond to all hazards, including terrorism threats, and a consideration of the characteristics of the community served (e.g. presence of critical infrastructure, population served, call volume) to the extent permitted by law. To the extent practical, AFG has attempted to harmonize the directions from the President and the Secretary with the requirements and limitations of the authorization and the structure of the fire service. Federal funding of assets devoted to basic firefighting should complement all aspects of responding to the more complex chemical/biological/radiological/nuclear/-explosive (CBRNE) threat.

Review Considerations

Fire Department Priorities

Specific rating criteria for each of the eligible programs and activities are discussed below. The funding priorities described in this Notice have been recommended by a panel of representatives from the Nation's fire service leadership and have been accepted by DHS for the purposes of implementing the AFG. These rating criteria provide an understanding of the grant program's priorities and the expected cost-effectiveness of any proposed project(s). The activities listed below are in no particular order of priority. Within each activity, DHS will consider the number of people served by the applicant with higher populations afforded more consideration than lower populations. DHS will further explain program priorities in Program Guidance to be published separately.

(1) Operations and Firefighter Safety Program.

(i) Training Activities. In implementing the fire service's recommendations, DHS has determined that the most benefit will be derived from instructor-led, hands-on training that leads to a nationally-sanctioned or State certification. Training requests that include Web-based home study or distance learning or the purchase of training materials, equipment, or props are a lower priority. Therefore, applications focused on national or State certification training, including train-the-trainer initiatives, will receive a higher competitive rating. Training that (1) Involves instructors, (2) requires the students to demonstrate their grasp of knowledge of the training material via testing, and (3) is integral to a certification will receive a high competitive rating. Instructor-led training that does not lead to a certification, and any self-taught courses, are of lower benefit, and therefore will not receive a high priority.

DHS will give higher priority, within the limitations imposed by the authorizing statutes, to training proposals which improve coordination capabilities across disciplines (Fire, EMS, and Police), and jurisdictions (local, State, and Federal). Training related to coordinated incident response (i.e. bomb threat or IED response), tactical emergency communications procedures, or similar types of inter-disciplinary, inter-jurisdictional training will receive the highest competitive rating.

Due to the inherent differences between urban, suburban, and rural firefighting characteristics, DHS has accepted the recommendations of the criteria development panel for different priorities in the training activities of departments that service these different types of communities. CBRNE awareness training has a high benefit, however, and will receive the highest consideration regardless of the type of community served and regardless of the absence of any national standard.

For fire departments serving rural communities, DHS has determined that funding basic, operational-level firefighting, operational-level rescue, driver training, and first-responder EMS, EMT-B, and EMT-I training (i.e., training in basic firefighting, EMS, and rescue duties) has greater benefit than funding officer training, safety officer training, or incident-command training. In rural communities, after basic training, there is a greater cost-benefit ratio for officer training than for other specialized types of training such as mass casualty, HazMat, advance rescue and EMT-P, or inspector training.

Conversely, for departments that are serving urban or suburban communities, DHS has determined that, due to the number of firefighters and the relatively-high population protected, any training requests will receive a high priority rating regardless of the level of training requested. As such, when considering applications for training from departments serving urban and suburban communities, DHS will give higher priority to training proposals which improve coordination capabilities across first-responder disciplines (fire, EMS, and law enforcement), and jurisdictions (local, State, and Federal). Training related to coordinated incident response (e.g., weapons of mass destruction (WMD) awareness and incident operations, chemical or biological operations, or bomb threats), tactical emergency communications procedures, or similar types of inter-disciplinary, inter-jurisdictional training will receive the highest competitive rating.

(ii) Wellness and Fitness Activities. In implementing the criteria panel's recommendations, DHS has determined that fire departments must offer periodic health screenings, entry physical examinations, and an immunization program to have an effective wellness/fitness program. Accordingly, applicants for grants in this category must currently offer or plan to offer with grant funds all three benefits to receive funding for any other initiatives in this activity. After entry-level physicals, annual physicals, and immunizations, DHS will give priority to formal fitness and injury prevention programs. DHS will give lower priority to stress management, injury/illness rehabilitation, and employee assistance.

DHS has determined the greatest relative benefit will be realized by supporting new wellness and fitness programs. Therefore, applicants for new wellness/fitness programs will receive higher competitive ratings when compared with applicants whose wellness/fitness programs lack one or more of the three top priority items cited above, and applicants that already employ the requisite three activities of a wellness/fitness program. Finally, because participation is critical to achieving any benefits from a wellness or fitness program, applications that mandate or provide incentives for participation will receive higher competitive ratings.

(iii) Equipment Acquisition. As stated in the AFG authorization statute, DHS administers this grant program to protect the health and safety of firefighters and the public from fire and fire-related hazards. As such, equipment that has a direct effect on the health and safety of either firefighters or the public will receive a higher competitive rating than equipment that has no such effect. Equipment that promotes interoperability with neighboring jurisdictions (especially for communications equipment interoperable with a regional shared system) will receive additional consideration in the cost-benefit assessment if the application makes it into the competitive range.

The criteria development panel concluded that this grant program will achieve the greatest benefits if the grant program provides funds to purchase firefighting equipment (including rescue, EMS, and/or CBRNE preparedness) that the applicant has not owned prior to the grant, or to replace used or obsolete equipment.

For the 2007 program year, the criteria development panel has recommended that DHS make a distinction between “new missions” and “new risks.” According to the panel, a department takes on a new mission when it expands its services into areas not previously offered, such as a fire department seeking funding to provide emergency medical services for the first time. A “new risk” presents itself when a department must address risks that have materialized in the department's area of responsibility, for example, the construction of a plant that uses significant levels of certain chemicals could constitute a “new risk.” An organization taking on “new risks” should be afforded higher consideration than departments taking on a “new mission.” New missions receive a lower priority due to the potential that an applicant will not be able to financially support and sustain the new mission beyond the period of the grant. However, applicants can mitigate the impact of “New Missions” on the competitiveness of their application by providing evidence that the department will be able to support and sustain the new mission beyond the period of grant.

Departments responding to high call volumes will be afforded a higher competitive rating than departments responding to lower call volumes. In other words, those departments that are required to respond more frequently will receive a higher competitive rating then those that respond less frequently.

The purchase of equipment that brings the department into statutory or regulatory compliance will provide the highest benefit and therefore will receive the highest consideration. The purchase of equipment that brings a department into voluntary compliance with national standards will also receive a high competitive rating, but not as high as for the purchase of equipment that brings a department into statutory compliance. The purchase of equipment that does not affect statutory compliance or voluntary compliance with a national standard will receive a lower competitive rating.

(iv) Personal Protective Equipment Acquisition. To achieve the Program's goals and maximize the benefit to the firefighting community, DHS believes that it must fund those applicants needing to provide personal protective equipment (PPE) to a high percentage of their personnel. Accordingly, DHS will assign a higher competitive rating in this category to fire departments where a larger number of active firefighting staff is without compliant PPE. DHS will assign a high competitive rating to departments that will purchase the equipment for the first time as opposed to departments replacing obsolete or substandard equipment (e.g., equipment that does not meet current NFPA and OSHA standards). For those departments that are replacing obsolete or substandard equipment, DHS will factor the age and condition of the equipment to be replaced into the score with a higher priority given to replacing old, damaged, torn, and/or contaminated equipment.

DHS will only consider funding applications for personal alert safety system (PASS) devices that meet current national safety standards, i.e., integrated and/or automatic or automatic-on PASS. Finally, DHS takes into account the number of fire response calls that a department makes in a year with the higher priority going to departments with higher call volumes, while applications from departments with low call volumes are afforded lower competitive ratings.

(v) Modifications to Fire Stations and Facilities. DHS believes that more benefit is derived from modifying fire stations than by modifying fire-training facilities or other fire-related facilities. The frequency of use has a bearing on the benefits derived from grant funds. As such, DHS will afford facilities occupied 24-hours-per-day/seven-days-a-week the highest consideration when contrasted with facilities used on a part-time or irregular basis. Facilities open for broad usage and which have a high occupancy capacity receive a higher competitive rating than facilities that have limited use and/or low occupancy capacity. The frequency and duration of a facility's occupancy have a direct relationship to the benefits realized from funding in this activity.

(2) Firefighting Vehicle Acquisition Program. Due to the inherent differences between urban, suburban, and rural firefighting conventions, DHS has developed different priorities in the vehicle program for departments that service different types of communities. The following chart delineates the priorities in this program area for each type of community. Due to the competitive nature of this program and the imposed limits of funding available for this program, it is unlikely that DHS will fund many vehicles not listed as a Priority One during the 2007 program year.

Vehicle Program Priorities
Priority | Urban communities | Suburban communities | Rural communities
Priority One | Pumper | Pumper | Pumper
| Aerial | Aerial | Brush/Attack
| Quint (Aerial < 76’) | Quint (Aerial < 76’) | Tanker/Tender
| Quint (Aerial 76’ or >) | Quint (Aerial 76’ or >) | Quint (Aerial < 76’)
| Rescue | Brush/Attack
Priority Two | Command | Command | HazMat
| HazMat | HazMat | Rescue
| Light/Air | Rescue | Light/Air
| Rehab | Tanker/Tender | Aerial
|  |  | Quint (Aerial 76’ or >)
Priority Three | Foam Truck | Foam Truck | Foam Truck
| ARFFV | ARFFV | ARFFV
| Brush/Attack | Rehab | Rehab
| Tanker/Tender | Light/Air | Command
| Ambulance | Ambulance | Ambulance
| Fire Boat | Fire Boat | Fire Boat

DHS will evaluate the marginal value derived from an additional vehicle of any given type on the basis of call volume. As a result, departments with fewer vehicles of a given type than other departments who service comparable call volumes are more likely to score competitively than departments with more vehicles of that type and comparable call volume unless the need for an additional vehicle of such type is made apparent in the application.

In 2007, applicants may submit requests for more than one vehicle. Applicants must supply sufficient justification for each vehicle contained in the request. For those applications with multiple vehicles, the panelists will be instructed to evaluate the marginal benefit to be derived from funding the additional vehicle(s) given the potential use and the population protected. DHS anticipates that the panels will only recommend an award for a multiple-vehicles application when the cost-benefit justification is adequately compelling.

DHS believes that a greater benefit will be derived from funding an additional vehicle(s) to departments that own fewer or no vehicles of the type requested. As such, DHS assigns a higher competitive rating in the apparatus category to fire departments that own fewer firefighting vehicles relative to other departments serving similar types of communities (i.e., urban, suburban and rural). DHS assesses all vehicles with similar functions when assessing the number of vehicles a department possesses within a particular type. For example, the “pumper” category includes: pumpers, engines, pumper/tankers (apparatus that carries a minimum of 300 gallons of water and has a pump with a capacity to pump a minimum of 750 gallons per minute), rescue-pumpers, quints (with aerials less than 76 feet in length), and urban interface vehicles (Type I). Apparatus that has water capacity in excess of 1,000 gallons and a pump with pumping capacity of less than 750 gallons per minute are considered to be a tanker/tender.

DHS assigns a higher competitive rating to departments possessing an aged fleet of firefighting vehicles. DHS will also assign a higher competitive rating to departments that respond to a high volume of incidents.

DHS will give lower priority to funding departments seeking apparatus with the goal to expand into new mission areas unless the applicant demonstrates that they will be able to support and sustain the new mission or service area beyond the grant program.

DHS will assign no competitive advantage to the purchase of standard model commercial vehicles relative to custom vehicles, or the purchase of used vehicles relative to new vehicles in the preliminary evaluation of applications. DHS has noted that, depending on the type and size of department, the peer review panelists often prefer low-cost vehicles when evaluating the cost-benefit section of the project narratives. DHS also reserves the right to consider current vehicle costs within the fire service vehicle manufacturing industry when determining the level of funding that will be offered to the potential grantee, particularly if those current costs indicate that the applicant's proposed purchase costs are excessive.

DHS will allow departments serving urban or suburban communities to apply for more than one vehicle. DHS, however, will allow departments serving rural communities to apply for only one vehicle. DHS will limit applications from suburban or urban departments to one vehicle per station as well as by the statutory funding limits. DHS will not limit applications because of a vehicle award from previous AFG program years, i.e., previous vehicle awardees are eligible for funding for additional vehicles in 2007.

(3) Administrative Costs. Panelists will assess the reasonability of the administrative costs requested in any application and determine if the request is reasonable and in the best interest of the program.

Nonaffiliated EMS Organization Priorities

DHS may make grants for the purpose of enhancing the provision of emergency medical services by nonaffiliated EMS organizations. The authorizing statute limits funding for these organizations to no more than two percent of the appropriated amount. DHS has determined that it is more cost-effective to enhance or expand an existing emergency medical service organization by providing training and/or equipment than to create a new service. Communities that do not currently offer emergency medical services but are turning to this grant program to initiate such a service received the lowest competitive rating. DHS does not believe creating a nonaffiliated EMS program is a substantial and sufficient benefit under the program.

Specific rating criteria and priorities for each of the grant categories are provided below following the descriptions of this year's eligible programs. The rating criteria, in conjunction with the program description, provide an understanding of the evaluation standards. In each activity, the amount of the population served by the applicant will be taken into consideration with higher populations afforded more consideration than low populations served. DHS will further explain program priorities in the Program Guidance upon publication thereof.

(1) EMS Operations and Safety Program.

Five different activities may be funded under this program area: EMS training, EMS equipment, EMS personal protective equipment, wellness and fitness, and modifications to facilities. Requests for equipment and training to prepare for response to incidents involving CBRNE were available under the applicable equipment and training activities.

(i) Training Activities. DHS believes that upgrading a service that currently meets a basic life support capacity to a higher level of life support creates the most benefit. Therefore, DHS will give a higher competitive rating to nonaffiliated EMS organizations that seek to upgrade from first responder to EMT-B level. Because training is a pre-requisite to the effective use of EMS equipment, organizations with requests more focused on training activities received a higher competitive rating than organizations whose request is more focused on equipment. The second priority is to elevate emergency responders' capabilities from EMT-B to EMT-I or higher.

(ii) EMS Equipment Acquisition. As noted above, training received a higher competitive rating than equipment. Applications seeking assistance to purchase equipment to support the EMT-B level of service received a higher priority than requests seeking assistance to purchase equipment to support advance level EMS services. Items that are eligible but a lower priority include tents, shelters, generators, lights, and heating and cooling units. Firefighting equipment is not eligible under this activity.

As discussed previously, organizations taking on “new risks” will be afforded much higher consideration than an organization taking on a “new mission.”

(iii) EMS Personal Protective Equipment. DHS gave the same priorities for EMS PPE as it did for fire department PPE discussed above. Acquisition of PASS devices or any firefighting PPE is not eligible, however, for funding for EMS organizations.

(iv) Wellness and Fitness Activities. DHS believes that to have an effective wellness/fitness program, nonaffiliated EMS organizations must offer periodic health screenings, entry physical examinations, and an immunization program similar to the programs for fire departments discussed previously. Accordingly, applicants for grants in this category must currently offer or plan to offer with grant funds all three benefits (periodic health screenings, entry physical examinations, and an immunization program) to receive funding for any other initiatives in this activity. The priorities for EMS wellness/fitness programs are the same as for fire departments as discussed above.

(v) Modification to EMS Stations and Facilities. DHS believes that the competitive rankings and priorities applied to modification of fire stations and facilities, discussed above, apply equally to EMS stations and facilities.

(2) EMS Vehicle Acquisition Program.

DHS gave the highest funding priority to acquisition of ambulances and transport vehicles due to the inherent benefits to the community and EMS service provider. Due to the costs associated with obtaining and outfitting non-transport rescue vehicles relative to the benefits derived from such vehicles, DHS will give non-transport rescue vehicles a lower competitive rating than transport vehicles. Vehicles that have a very narrow function, such as aircraft, boats, and all-terrain vehicles, received the lowest competitive rating. DHS anticipates that the EMS vehicle awards will be very competitive due to very limited available funding. Accordingly, DHS will likely only fund vehicles that are listed as a “Priority One” in the 2007 program year.

The following chart delineates the priorities in this program area for EMS vehicle program. The priorities are the same regardless of the type of community served.

EMS Vehicle Priorities
Priority one | Priority two | Priority three
• Ambulance or transport unit to support EMT-B needs and functions | • First responder non-transport vehicles • Special operations vehicles | • Helicopters/planes. • Command vehicles. • Rescue boats (over 13 feet in length). • Hovercraft. • Other special access vehicles.

Along with the priorities illustrated above, DHS has accepted the fire service recommendation that emerged from the criteria development process that funding applicants that own few or no vehicles of the type sought will be more beneficial than funding applicants that own numerous vehicles of that same type. DHS assesses the number of vehicles an applicant owns by including all vehicles of the same type. For example, transport vehicles will be considered the same as ambulances. DHS will give a higher competitive rating to applicants that have an aged fleet of emergency vehicles, and to applicants with old, high-mileage vehicles. DHS will give a higher competitive rating to applicants that respond to a significant number of incidents relative to applicants responding less often. Finally, DHS will afford applicants with transport vehicles with high mileage more consideration than applicants with vehicles that driven extensively.

(3) Administrative Costs. Panelists assess the reasonableness of the administrative costs requested in each application and determined whether the request will be reasonable and in the best interest of the program.

Dated: March 16, 2007.
George W. Foresman,
Under Secretary for Preparedness.

[FR Doc. 07-1380 Filed 3-16-07; 12:58 pm]

BILLING CODE 4410-10-P